DEPARTMENT OF ENERGY

Federal Energy Regulatory Commission

[Project No. 13360-000]

Hydrodynamics, Inc.; Notice of Preliminary Permit Application Accepted for Filing and Soliciting Comments, Motions To Intervene, and Competing Applications

May 8, 2009.

On January 29, 2009, Hydrodynamics, Inc. filed an application for a preliminary permit, pursuant to section 4(f) of the Federal Power Act, proposing to study the feasibility of the Ruby River Reservoir Hydroelectric Project, which would be located at the existing Ruby River dam on Ruby River near the town of Alder in Madison County, Montana. The sole purpose of a preliminary permit, if issued, is to grant the permit holder priority to file a license application during the permit term. A preliminary permit does not authorize the permit holder to perform any land disturbing activities or otherwise enter upon lands or waters owned by others without the owners' express permission.

The proposed project would consist of the following:

(1) An existing 846-foot-long, 111-foot-high earthen dam; (2) an existing reservoir with a surface area of 970 acres and a storage capacity of 37,612 acre-feet at the normal water surface elevation of 5,392 feet mean sea level; (3) an existing concrete outlet works tunnel, which would be lined with steel; (4) a new 84-inch-diameter, 180-foot-long steel penstock in the tunnel; (5) a new 84-inch-diameter, 20-foot-long penstock extending from the tunnel to the powerhouse; (6) a new powerhouse containing two generating units with a combined installed capacity of 2.2 megawatts; (7) a new tailrace discharging flows into the Ruby River at the base of the dam; (8) a new substation; (9) a new 15-kilovolt, 2-mile-long transmission line; and (10) appurtenant facilities. The proposed project would have an average annual generation of 10 gigawatt-hours.

Applicant Contact: Ben Singer, Project Manager, Hydrodynamics, Inc., P.O. Box 1136, Bozeman, MT 59771; phone: (406) 587-5086.

FERC Contact: Dianne Rodman, 202-502-6077.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13360) in the docket number field to access the document. For assistance, call toll-free 1-866-208-3372.

Kimberly D. Bose,
Secretary.

[FR Doc. E9-11343 Filed 5-14-09; 8:45 am]

BILLING CODE 6717-01-P